GENERAL SERVICES ADMINISTRATION

[Notice-FTR-2014-03; Docket No. 2014-0002; Sequence 10; GSA Bulletin FTR 14-06]

Maximum per Diem Rates for the State of West Virginia

AGENCY: Office of Government-wide Policy (OGP), General Services Administration (GSA).

ACTION: Notice of Per Diem Bulletin 14-06, revised Continental United States (CONUS) per diem rates.

SUMMARY: The General Services Administration (GSA) has conducted its mid-year review and has determined that the per diem rate for one location in the State of West Virginia is inadequate.

DATES: This notice is effective March 20, 2014 and applies to travel performed on or after April 1, 2014 through September 30, 2014.

FOR FURTHER INFORMATION CONTACT: For clarification of content, please contact Ms. Jill Denning, Office of Government-wide Policy, Office of Asset and Transportation Management, at 202-208-7642, or by email at travelpolicy@gsa.gov. Please cite Notice of FTR Bulletin 14-06.

SUPPLEMENTARY INFORMATION:

A. Background

After an analysis of the per diem rates established for FY 2014 (see the Federal Register notice at 78 FR 54651, September 5, 2013, and FTR Bulletin 14-01), one non-standard area per diem rate is being established for the following location:

State of West Virginia

• Jefferson County

CONUS per diem rates are published as FTR Per Diem Bulletins available on the Internet at www.gsa.gov/perdiem and www.gsa.gov/bulletins. This process ensures timely notice of increases or decreases in per diem rates established by GSA for Federal employees on official travel within CONUS. Notices published periodically in the Federal Register, such as this one, now constitute the only notification of revisions in CONUS per diem rates to agencies.

Dated: March 13, 2014.
Carolyn Austin-Diggs,
Acting Deputy Associate Administrator, Office of Asset and Transportation Management, Office of Government-wide Policy.

[FR Doc. 2014-06079 Filed 3-19-14; 8:45 am]

BILLING CODE 6820-14-P